DEPARTMENT OF EDUCATION

Foreign Language Assistance Program—State Educational Agencies

AGENCY: Office of English Language Acquisition, Language Enhancement, and Academic Achievement for Limited English Proficient Students, Department of Education.

ACTION: Notice of final priority.

SUMMARY: The Assistant Deputy Secretary and Director for English Language Acquisition, Language Enhancement, and Academic Achievement for Limited English Proficient Students, announces a priority under the Foreign Language Assistance program. We may use this priority for competitions in fiscal year (FY) 2006 and later years. We take this action to focus Federal financial assistance on an identified national need for programs in critical foreign languages within kindergarten through grade twelve during the traditional school day. We intend this priority to enable the Department to award grants that increase the number of State educational agency programs implementing elementary and secondary school projects teaching languages of major economic and political importance.

DATES: Effective Date: This priority is effective June 19, 2006.

FOR FURTHER INFORMATION CONTACT: Rebecca Richey, U.S. Department of Education, 400 Maryland Avenue, SW., room 10080, PCP, Washington, DC 20202-6510. Telephone: (202) 245-7133 or via Internet: rebecca.richey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Through this program, the Department intends to fund elementary and secondary school projects teaching critical languages within kindergarten through grade twelve during the traditional school day. The purpose of the program is to provide grants to State educational agencies for innovative model programs providing for the establishment, improvement, or expansion of foreign language study for elementary and secondary school students.

We published a notice of proposed priority for this program in the Federal Register on February 28, 2006 (71 FR 10024). There are no differences between the notice of proposed priority and this notice of final priority.

Analysis of Comments and Changes

In response to our invitation in the notice of proposed priority more than 4 parties submitted comments on the proposed priority. An analysis of the comments follows.

Generally, we do not address technical and other minor changes—and suggested changes that we are not authorized to make under the applicable statutory authority.

Comment: One commenter suggested that the proposed priority for critical languages include a preference for projects that begin as early as kindergarten in order to promote sequential study of the foreign language.

Discussion: The Foreign Language Assistance Act of 2001, which authorizes this program, provides for the Department to give special consideration to projects that promote the sequential study of a foreign language for students beginning in elementary schools. It is not necessary for us to establish a separate priority for these projects.

Change: None.

Comment: Two commenters suggested that emphasizing support for specific critical languages, to the exclusion of other languages, would be detrimental to foreign language instruction in other languages more commonly taught in their states.

Discussion: Depending on how we apply this priority and any other priorities we fund in a particular competition, this priority for projects teaching critical languages would not necessarily preclude applicants from proposing projects providing instruction in other foreign languages when applying for a grant. Establishing this priority simply allows the Secretary to use this priority in a competition in a given year and as necessary to meet the needs and goals of this program.

Change: None.

Note: This notice does not solicit applications. In any year in which we choose to use this priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Critical Need Languages

This priority supports projects that establish, improve or expand foreign language learning primarily during the traditional school day, within grade kindergarten through grade 12 that exclusively teach one or more of the following less commonly taught languages: Arabic, Chinese, Korean, Japanese, Russian, and languages in the Indic, Iranian, and Turkic language families.

Executive Order 12866

This notice of final priority has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

We have also determined that this regulatory action does not unduly interfere with State, local, and tribal governments in the exercise of their governmental functions.

We summarized the costs and benefits in the notice of proposed priority.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.293C Foreign Language Assistance Program—State Educational Agencies)

Program Authority: 20 U.S.C. 7259a-7259b.

Dated: May 12, 2006.
Kathleen Leos,
Assistant Deputy Secretary and Director for English Language Acquisition, Language Enhancement, and Academic Achievement for Limited English Proficient Students.

[FR Doc. 06-4614 Filed 5-18-06; 8:45 am]

BILLING CODE 4000-01-P